DEPARTMENT OF ENERGY

Federal Energy Regulatory Commission

[Project Nos. 349-168; 2407-134]

Alabama Power Company; Notice of Application for Amendment of License and Soliciting Comments, Motions To Intervene, and Protests

December 30, 2010.

Take notice that the following hydroelectric application has been filed with the Commission and is available for public inspection:

a: Application Type: Request for drought-based temporary variance of the Martin Project rule curve and minimum flow releases at the Yates and Thurlow Project.

b: Project Nos.: 349-168 and 2407-134.

c: Date Filed: November 30, 2010.

d: Applicant: Alabama Power Company.

e: Name of Project: Martin Hydroelectric Project (P-349) and Yates and Thurlow Hydroelectric Project (P-2407).

f: Location: The Martin Dam Project is located on the Tallapoosa River in the counties of Coosa, Elmore, and Tallapoosa, Alabama. The Yates and Thurlow Project is located on the Tallapoosa River in the counties of Elmore and Tallapoosa, Alabama.

g. Filed Pursuant to: Federal Power Act, 16 U.S.C. 791(a)-825(r).

h: Applicant Contact: Mr. Jason Powers, Alabama Power Company, 600 18th Street North, Birmingham, Alabama 35203-8180, Tel: (205) 257-4070.

i. FERC Contact: Christopher Chaney, (202) 502-6778, christopher.chaney@ferc.gov.

j. Deadline for filing comments, motions to intervene, and protests: 15 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: Alabama Power is requesting a drought-based temporary variance to the Martin Project rule curve. The rule curve variance would be in effect from the date of Commission approval to March 1, 2011, and would allow the licensee to maintain the winter pool elevation 3 feet higher than normal, at elevation 483 feet instead of elevation 480 feet. In association with the Martin rule curve variance, the minimum flows from the Thurlow reservoir (P-2407) would be temporarily modified as follows until May 1, 2011: (1) When downstream Alabama River flows are reduced 10%, discharge would be the greater of ½ Yates inflow or 2 times inflow at the upstream Heflin gage; (2) when downstream Alabama River flows are reduced 20%, the discharge would be 350 cfs; and (3) if Alabama River flows are reduced to 2,000 dsf, the discharge would be 400 cfs.

l. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

You may also register online at http://www.ferc.gov/docs-filing/esubscription.asp to be notified via e-mail of new filings and issuances related to this or other pending projects. For assistance, contact FERC Online Support.

m. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, State, and local agencies are invited to file comments on the described application. A copy of the application may be obtained by agencies directly from the applicant. If an agency does not file comments within the time specified for filing comments, it will be presumed to have no comments. One copy of an agency's comments must also be sent to the Applicant's representatives.

Kimberly D. Bose,
Secretary.

[FR Doc. 2011-48 Filed 1-6-11; 8:45 am]

BILLING CODE 6717-01-P